FEDERAL EMERGENCY MANAGEMENT AGENCY

Open Meeting, Technical Mapping Advisory Council

AGENCY: Federal Emergency Management Agency (FEMA).

ACTION: Notice of teleconference meeting.

SUMMARY: In accordance with § 10(a)(2) of the Federal Advisory Committee Act, 5 U.S.C. App. 1, the Federal Emergency Management Agency gives notice that the following meeting will be held:

Name: Technical Mapping Advisory Council.

Date of Meeting: August 22, 2000.

Place: The FEMA Conference Operator in Washington, DC will administer the teleconference. Individuals interested in participating should call 1-800-320-4330 at the time of the teleconference. Callers will be prompted for the conference code, #16, and they will then be connected through to the teleconference.

Time: 11:00 a.m. to 1:00 p.m., EST.

Proposed Agenda:

1. Call to order.

2. Announcements.

3. Action on minutes from July 2000 meeting.

4. Review Annual and Year 2000 Report draft text.

5. Discuss agenda for October 2000 meeting.

6. New business.

7. Adjournment.

Status: This meeting is open to the public.

FOR FURTHER INFORMATION CONTACT: Ms. Sally P. Magee, Federal Emergency Management Agency, 500 C Street SW., room 442, Washington, DC 20472, telephone (202) 646-8242 or by facsimile at (202) 646-4596.

SUPPLEMENTARY INFORMATION: Minutes of the meeting will be prepared and will be available upon request 30 days after they have been approved by the next Technical Mapping Advisory Council meeting in October 2000.

Dated: August 14, 2000.
Michael J. Armstrong,
Associate Director for Mitigation.

[FR Doc. 00-21097 Filed 8-17-00; 8:45 am]

BILLING CODE 6718-04-P